DEPARTMENT OF THE INTERIOR

Bureau of Indian Affairs

[256A2100DD/AAKC001030/A0A501010.000000]

Osage Nation Liquor Control Ordinance

AGENCY: Bureau of Indian Affairs, Interior.

ACTION: Notice.

SUMMARY: This notice publishes an amendment to the Osage Nation Liquor Control Ordinance, which comprehensively amends and supersedes the existing Osage Nation Liquor Control Ordinance enacted by the Osage Tribal Council on August 4, 2004.

DATES: This amendment shall become effective September 24, 2025.

FOR FURTHER INFORMATION CONTACT: Ms. Kasey McKenzie, Tribal Government Services Officer, Eastern Oklahoma Regional Office, Bureau of Indian Affairs, 3100 West Peak Boulevard, Muskogee, OK 74402, Telephone: (918) 731-8973.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country. On November 19, 2024, the Osage Nation Congress, by Osage Nation Congress Act 25-01, duly adopted an amendment to title 20, section 1-105. This Federal Register Notice comprehensively amends and supersedes the existing title 20, section 1-105, of the Osage Nation Code, which was enacted by the Osage Tribal Council by Resolution No. 31-846 on August 4, 2004, and published in the Federal Register on January 19, 2005 (70 FR 3054).

This notice is published in accordance with the authority delegated by the Secretary of the Interior to the Assistant Secretary—Indian Affairs. I certify that the Osage Nation Congress duly adopted this amendment to title 20 (Liquor Control Ordinance), section 1-105, on November 19, 2024.

Scott J. Davis,
Senior Advisor to the Secretary of the Interior, Exercising the delegated authority of the Assistant Secretary—Indian Affairs.

The Osage Nation Liquor Control Ordinance, title 20, section 1-105, shall read as follows:

§ 1-105. Taxes.

A. Tax Levied. There is hereby levied a liquor tax of seven percent (7%) on the sale of each and every alcoholic beverage sold within the Osage Nation Reservation and Osage Indian country. The incidence of said tax shall be on the consumer. The liquor tax shall be collected by the gaming facility or licensee and paid over to the Osage Nation Tax Commission as provided herein. No municipality, city, town or county, nor the state shall have the power to impose an excise or any other tax upon liquor as defined in this ordinance, or to govern or license the sale or distribution thereof in any manner within the Osage Reservation and Osage Indian country, unless in conformance with federal, Oklahoma, and Osage Nation law.

B. Taxes Due. All taxes for the sale of liquor and alcoholic beverages on the Osage Reservation and Osage Indian country are due on the 15th day of the month following the end of the calendar quarter for which the taxes are due.

C. Delinquent Taxes. Past due taxes shall accrue interest at two percent (2%) per month.

D. Reports. Along with payment of the taxes imposed herein, the taxpayer shall submit a quarterly accounting of all income from the sale or distribution of liquor, as well as for the taxes collected, to the Osage Nation Tax Commission.

E. Compliance with Nation Tax Laws. Except as otherwise set forth in this ordinance, the collection and enforcement of liquor taxes shall be conducted by the Osage Nation Tax Commission in accordance with Osage law.

[FR Doc. 2025-16222 Filed 8-22-25; 8:45 am]

BILLING CODE 4337-15-P